SECURITIES AND EXCHANGE COMMISSION

17 CFR Part 240

[Release No. 34-68071A; File No. S7-08-12]

RIN 3235-AL12

Capital, Margin, and Segregation Requirements for Security-Based Swap Dealers and Major Security-Based Swap Participants and Capital Requirements for Broker-Dealers; Correction

AGENCY: Securities and Exchange Commission.

ACTION: Proposed rule; correction.

SUMMARY: Technical corrections are being made to the Commission's Release No. 34-68071, which proposed capital and margin requirements for security-based swap dealers (“SBSDs”) and major security-based swap participants (“MSBSPs”), segregation requirements for SBSDs, and notification requirements with respect to segregation for SBSDs and MSBSPs, as well as increases to the minimum net capital requirements for broker-dealers permitted to use the alternative internal model-based method for computing net capital.

FOR FURTHER INFORMATION CONTACT: Sheila Dombal Swartz, Special Counsel, at (202) 551-5545, or Valentina Minak Deng, Attorney, at (202) 551-5778, Division of Trading and Markets, Securities and Exchange Commission, 100 F Street NE., Washington, DC 20549-7010.

SUPPLEMENTARY INFORMATION: Specifically, corrections are being made to the table in footnote 172 on page 70233 and paragraph 6.c. of page 70332 of volume 77 of the Federal Register. The following corrections are hereby made to Release No. 34-68071 (October 18, 2012), which was published in FR Doc. 2012-26164 and appeared on page 70214 of the Federal Register on November 23, 2012 (77 FR 70214):

1. In footnote 172 in the first column of page 70233, the first row of the table, which currently reads “Time to Maturity and Deduction”, is corrected to read: “Time to Maturity Category—Deduction”.

2. In the third column of page 70332, paragraph 6.c. identifying an amendment to 17 CFR 240.15c3-1e(c)(2)(ii), which currently reads “In paragraph (c)(2)(ii), removing the phrase “$5 billion” and adding in its place the phrase “$6 billion”; and”, is corrected to read: “In paragraph (c)(2)(ii), removing the phrase “less than 50%” and adding in its place the phrase “less than or equal to 50%”; and”.

Dated: November 27, 2012.
Elizabeth M. Murphy,
Secretary.

[FR Doc. 2012-29048 Filed 11-30-12; 8:45 am]

BILLING CODE 8011-01-P